DEPARTMENT OF ENERGY

Federal Energy Regulatory Commission

Combined Notice of Filings #2

Take notice that the Commission received the following electric corporate filings:

Docket Numbers: EC14-90-000.

Applicants: SunEdison LLC.

Description: Supplement to May 23, 2014 Joint Application for approval of SunEdison LLC and AES U.S. Solar, LLC under Section 203 of the Fed Power Act under.

Filed Date: 6/10/14.

Accession Number: 20140610-5247.

Comments Due: 5 p.m. ET 6/19/14.

Take notice that the Commission received the following electric rate filings:

Docket Numbers: ER14-1792-001.

Applicants: Pinnacle Power, LLC.

Description: Amendment to MBR Application of Pinnacle Power, LLC to be effective 6/1/2014.

Filed Date: 6/11/14.

Accession Number: 20140611-5137.

Comments Due: 5 p.m. ET 7/2/14.

Docket Numbers: ER14-2107-001.

Applicants: Southwest Power Pool, Inc.

Description: 1148R18 Substitute American Electric Power Corp. NITSA NOA to be effective 5/1/2014.

Filed Date: 6/11/14.

Accession Number: 20140611-5159.

Comments Due: 5 p.m. ET 7/2/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 11, 2014.
Kimberly D. Bose,
Secretary.

[FR Doc. 2014-14282 Filed 6-18-14; 8:45 am]

BILLING CODE 6717-01-P